DEPARTMENT OF HEALTH AND HUMAN SERVICES

Administration for Children and Families

Submission for OMB Review; Comment Request

Title: DRA TANF Final Rule.

OMB No.: 0970-0338.

Description: When the Deficit Reduction Act of 2005 (DRA) reauthorized the Temporary Assistance for Needy Families (TANF) program, it imposed a new data requirement that States prepare and submit data verification procedures and replaced other data requirements with new versions including: the TANF Data Report, the SSP-MOE Data Report, the Caseload Reduction Documentation Process, and the Reasonable Cause/Corrective Compliance Documentation Process. The Department of Health and Human Services Appropriations Act, P.L. 113-76 extended the TANF program through September 2014. We are proposing to continue these information collections without change.

Respondents: States, Territories and Tribes.

Annual Burden Estimates
Instrument | Number of respondents | Number of responses per respondent | Average burden hours per response | Total burden hours
Preparation and Submission of Data Verification Procedures §§ 261.60-261.63 | 54 | 1 | 640 | 34,560
Caseload Reduction Documentation Process, ACF-202 §§ 261.41 & 261.44 | 54 | 1 | 120 | 6,480
Reasonable Cause/Corrective Compliance Documentation Process §§ 262.4, 262.6, & 262.7; § 261.51 | 54 | 2 | 240 | 25,920
TANF Data Report Part 265 | 54 | 4 | 2,201 | 475,416
SSP-MOE Data Report Part 265 | 29 | 4 | 714 | 82,824
Estimated Total Annual Burden Hours |  |  |  | 625,200

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-12498 Filed 5-29-14; 8:45 am]

BILLING CODE 4184-01-P